DEPARTMENT OF ENERGY

DOE/National Science Foundation Nuclear Science Advisory Committee

AGENCY: Office of Science, Department of Energy (DOE).

ACTION: Notice of open meeting.

SUMMARY: This notice announces an in-person meeting of the DOE/NSF Nuclear Science Advisory Committee (NSAC). The Federal Advisory Committee Act requires that public notice of these meetings be announced in the Federal Register.

DATES: Thursday, September 12, 2024; 9 a.m.-5 p.m. EDT.

ADDRESSES: Hilton Washington DC/Rockville Hotel & Executive Meeting Center, 1750 Rockville Pike, Rockville, Maryland 20852, (301) 468-1100.

Information to participate virtually can be found on the NSAC website closer to the meeting at: https://science.osti.gov/np/nsac/meetings.

FOR FURTHER INFORMATION CONTACT: Brenda L. May, Committee Manager, NSAC, (301) 903-0536, Email: Brenda.May@science.doe.gov.

SUPPLEMENTARY INFORMATION:

Purpose of the Board: The purpose of the Board is to provide advice and guidance on a continuing basis to the Department of Energy and the National Science Foundation on scientific priorities within the field of basic nuclear science research.

Tentative Agenda:

• Call to Order, Introductions, Review of the Agenda

• Perspective from Department of Energy and National Science Foundation

• Updates from the Department of Energy and National Science Foundation's Nuclear Physics Offices

• Communicating the Science Talks on Electron Ion Collider/Neutrinoless Double Beta Decay

• Presentation of the Committee of Visitors Charge

• NSAC Business/Discussions

• Public Comment

Public Participation: The meeting is open to the public. Please check https://science.osti.gov/np/nsac/meetings for updates and information on how to view the meeting. If you would like to file a written statement with the Committee, you may do so either before or after the meeting. If you would like to make oral statements regarding any of these items on the agenda, you should contact Brenda L. May at Brenda.May@science.doe.gov. You must make your request for an oral statement at least five business days before the meeting. Reasonable provision will be made to include the scheduled oral statements on the agenda. The Chairperson of the Committee will conduct the meeting to facilitate the orderly conduct of business. Public comment will follow the 10-minute rule. If you have any questions or need a reasonable accommodation under the Americans with Disabilities Act for this event, please send your request to Brenda L. May at Brenda.May@science.doe.gov two weeks but no later than 48 hours, prior to the event. Closed captions will be enabled.

Minutes: The minutes of the meeting will be available for review on the U.S. Department of Energy's Office of Nuclear Physics website at https://science.osti.gov/np/nsac/meetings.

Signing Authority: This document of the Department of Energy was signed on August 13, 2024, by David Borak, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 14, 2024.
Treena V. Garrett,
Federal Register Liaison Officer, U.S. Department of Energy.

[FR Doc. 2024-18504 Filed 8-16-24; 8:45 am]

BILLING CODE 6450-01-P